DEPARTMENT OF COMMERCE

International Trade Administration

[A-570-849]

Certain Cut-to-Length Carbon Steel Plate From the People's Republic of China: Final Results of Antidumping Duty Administrative Review; 2013-2014

AGENCY: Enforcement and Compliance, International Trade Administration, Department of Commerce.

SUMMARY: On August 11, 2015, the Department of Commerce (the “Department”) published the Preliminary Results of the administrative review (“AR”) of the antidumping duty order on certain cut-to-length carbon steel plate (“CTL plate”) from the People's Republic of China (“PRC”).¹ The period of review (“POR”) is November 1, 2013, through October 31, 2014. The Department invited interested parties to comment on the Preliminary Results. Only Nucor Corporation (“Petitioner”) submitted comments to the Department. After considering the comments received, the Department made no changes to the Preliminary Results in these final results of review.

¹ See Certain Cut-to-Length Carbon Steel Plate From the People's Republic of China: Preliminary Results of Antidumping Administrative Review and Preliminary Determination of No Shipments; 2013-2014, 80 FR 48073 (August 11, 2015) (“Preliminary Results”).

DATES: Effective Date: December 7, 2015.

FOR FURTHER INFORMATION CONTACT: Patrick O'Connor, AD/CVD Operations, Office IV, Enforcement and Compliance, International Trade Administration, U.S. Department of Commerce, 14th Street and Constitution Avenue NW., Washington, DC 20230; telephone: (202) 482-0989.

SUPPLEMENTARY INFORMATION:

Background

On August 11, 2015, the Department published the Preliminary Results of the AR of the antidumping duty order on CTL plate from the PRC covering the period November 1, 2013, through October 31, 2014, in accordance with section 751(a)(1)(B) of the Tariff Act of 1930, as amended (“the Act”). The AR covers six PRC companies. The Department invited interested parties to comment on the Preliminary Results. On September 10, 2015, the Department received comments from the Petitioner. No other party submitted comments on the Preliminary Results.

Scope of the Order

The product covered by the order is certain cut-to-length carbon steel plate from the PRC.² This merchandise is currently classified in the Harmonized Tariff Schedule of the United States (“HTSUS”) under item numbers 7208.40.3030, 7208.40.3060, 7208.51.0030, 7208.51.0045, 7208.51.0060, 7208.52.0000, 7208.53.0000, 7208.90.0000, 7210.70.3000, 7212.40.5000, and 7212.50.0000. Although the HTSUS subheadings are provided for convenience and customs purposes, the written description of the scope of the order is dispositive.

² See Certain Cut-to-Length Carbon Steel Plate from the People's Republic of China: Issue and Decision Memorandum for the Final Results of the 2013-2014 Administrative Review, dated concurrently with this notice, for a complete description of the scope of the order (“Issue and Decision Memorandum”).

Analysis of the Comments Received

The issue raised in Petitioner's case brief is addressed in the Issues and Decision Memorandum which is dated concurrently with, and hereby adopted by, this notice. A list of the sections in the Issues and Decision Memorandum is appended to this notice. The Issues and Decision Memorandum is a public document and is on file electronically via Enforcement and Compliance's Antidumping and Countervailing Duty Centralized Electronic Services System (“ACCESS”). ACCESS is available to registered users at http://access.trade.gov and is available to all parties in the Central Records Unit of the main Department building, room B8024. In addition, a complete version of the Issues and Decision Memorandum can be accessed directly on the internet at http://enforcement.trade.gov/frn/. The signed Issues and Decision Memorandum and electronic version of the Issues and Decision Memorandum are identical in content.

Companies That Did Not Demonstrate Separate Rate Eligibility

In the Preliminary Results, the Department determined that five companies did not establish their eligibility for separate rate status and, thus, are part of the PRC-wide entity.³ In its comments on the Preliminary Results, Petitioner states that the Department correctly denied Hunan Valin Xiangtan Iron & Steel Co., Ltd. (“Hunan Valin”) separate rate status. In these final results, we are continuing to treat Hebei Iron, Hunan Valin, Jiangyin Plastic, Jiangyin Steel, and Xiamen Paper as part of the PRC-wide entity. Because no party requested a review of the PRC-wide entity, the entity is not under review and the entity's rate is not subject to change.⁴

³ See Preliminary Results at 80 FR 48074. The five companies that did not establish their eligibility for a separate rate are: Hebei Iron & Steel Co., Ltd. (“Hebei Iron”); Hunan Valin; Jiangyin Xingcheng Plastic Chemical Co., Ltd. (“Jiangyin Plastic”); Jiangyin Xingcheng Special Steel Works Co., Ltd. (“Jiangyin Steel”); and Xiamen C&D Paper & Pulp Co., Ltd. (“Xiamen Paper”). See also Comment 1 of the Issues and Decision Memorandum.

⁴ See Preliminary Results. See also Antidumping Proceedings: Announcement of Change in Department Practice for Respondent Selection in Antidumping Duty Proceedings and Conditional Review of the Nonmarket Economy Entity in NME Antidumping Duty Proceedings, 78 FR 65963, 65970 (November 4, 2013). Under this practice, the PRC-wide entity will not be under review unless a party specifically requests, or the Department self-initiates, a review of the entity.

Final Determination of No Shipments

In the Preliminary Results, we determined that Wuyang Iron & Steel Co, Ltd. (“Wuyang Iron”) did not have any reviewable transactions during the POR.⁵ We did not receive any comments concerning our finding of no shipments by Wuyang Iron. In these final results, we continue to determine that Wuyang Iron had no reviewable transactions of subject merchandise during the POR.

⁵ See Preliminary Results and accompanying Decision Memorandum at 4.

Assessment Rates

Pursuant to section 751(a)(2)(C) of the Act, and 19 CFR 351.212(b), the Department has determined, and CBP shall assess, antidumping duties on all appropriate entries of subject merchandise in accordance with the final results of this review. The Department intends to issue assessment instructions to CBP 15 days after the publication date of these final results of this review. The Department intends to instruct CBP to liquidate any entries of subject merchandise from Hebei Iron, Hunan Valin; Jiangyin Plastic, Jiangyin Steel, and Xiamen Paper, at 128.59 percent (the PRC-wide rate).

Additionally, pursuant to the Department's practice, because we determined that Wuyang Iron had no shipments of subject merchandise during the POR, we intend to instruct CBP to liquidate any suspended entries of subject merchandise from Wuyang Iron at the PRC-wide rate.⁶

⁶ For a full discussion of this practice, see Non-Market Economy Antidumping Proceedings: Assessment of Antidumping Duties, 76 FR 65694 (October 24, 2011).

Cash Deposit Requirements

The following cash deposit requirements will be effective upon publication of the final results of this administrative review for all shipments of the subject merchandise entered, or withdrawn from warehouse, for consumption on or after the publication date of the final results of review, as provided by section 751(a)(2)(C) of the Act: (1) For previously investigated or reviewed PRC and non-PRC exporters which are not under review in this segment of the proceeding but which have separate rates, the cash deposit rate will continue to be the exporter-specific rate published for the most recent period; (2) for all PRC exporters of subject merchandise that have not been found to be entitled to a separate rate, including Hebei Iron; Hunan Valin; Jiangyin Plastic; Jiangyin Steel; and Xiamen Paper, the cash deposit rate will be the PRC-wide rate of 128.59 percent; and (3) for all non-PRC exporters of subject merchandise which have not received their own rate, the cash deposit rate will be the rate applicable to the PRC exporter(s) that supplied that non-PRC exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Administrative Protective Order

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

These final results of review are issued and published in accordance with sections 751(a)(1) and 777(i) of the Act and 19 CFR 351.213.

Dated: November 24, 2015.
Paul Piquado,
Assistant Secretary for Enforcement and Compliance.

Appendix

Summary

Background

Scope of the Order

Discussion of the Issues

Comment 1: Whether Hunan Valin Xiangtan Iron & Steel Co. Ltd. (“Hunan Valin”) has Demonstrated Eligibility for Separate Rate Status

Recommendation

[FR Doc. 2015-30789 Filed 12-4-15; 8:45 am]

BILLING CODE 3510-DS-P